DEPARTMENT OF LABOR

Employment and Training Administration

[NAFTA-04199]

United States Sugar Corporation, Clewiston, FL; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 U.S.C. 2273), an investigation was initiated on September 19, 2000, in response to a petition filed on behalf of workers at United States Sugar Corporation, Clewiston, Florida.

The petitioner has requested that the petition be withdrawn. Consequently, further investigation in this case would serve no purpose, and the investigation has been terminated.

Signed at Washington, D.C., this 5th day of January 2001.
Linda G. Poole,
Certifying Officer, Division of Trade Adjustment Assistance.

[FR Doc. 01-3291 Filed 2-7-01; 8:45 am]

BILLING CODE 4510-30-M